FEDERAL COMMUNICATIONS COMMISSION

47 CFR Part 73

[DA 01-858, MM Docket No. 01-3, RM-10010]

Digital Television Broadcast Service; Jacksonville, NC

AGENCY: Federal Communications Commission.

ACTION: Final rule.

SUMMARY: The Commission, at the request of The University of North Carolina, licensee of noncommercial station WUNM-TV, NTSC channel *19, substitutes DTV channel *18 for DTV channel *44 at Jacksonville, North Carolina. See 66 FR 2395, January 11, 2001. DTV channel *18 can be allotted to Jacksonville in compliance with the principle community coverage requirements of Section 73.625(a) at reference coordinates (35-06-18 N. and 77-20-15 W.) with a power of 65.0, HAAT of 561 meters and with a DTV service population of 713 thousand. With is action, this proceeding is terminated.

DATES: Effective May 21, 2001.

FOR FURTHER INFORMATION CONTACT: Pam Blumenthal, Mass Media Bureau, (202) 418-1600.

SUPPLEMENTARY INFORMATION: This is a synopsis of the Commission's Report and Order, MM Docket No. 01-3, adopted April 4, 2001, and released April 6, 2001. The full text of this Commission decision is available for inspection and copying during normal business hours in the FCC Reference Center, 445 12th Street, SW., Washington, DC. The complete text of this decision may also be purchased from the Commission's copy contractor, International Transcription Services, Inc., (202) 857-3800, 1231 20th Street, NW., Washington, DC 20036.

List of Subjects in 47 CFR Part 73

Television, Digital television broadcasting.

Part 73 of Title 47 of the Code of Federal Regulations is amended as follows:

47 CFR PART 73—[AMENDED]

1. The authority citation for Part 73 continues to read as follows:

Authority: 47 U.S.C. 154, 303, 334, 336.

§ 73.622 [Amended]

2. Section 73.622(b), the Table of Digital Television Allotments under North Carolina, is amended by removing DTV channel *44 and adding DTV channel *18 at Jacksonville.

Federal Communications Commission.
Barbara A. Kreisman,
Chief, Video Services Division, Mass Media Bureau.

[FR Doc. 01-8842 Filed 4-10-01; 8:45 am]

BILLING CODE 6712-01-P